DEPARTMENT OF COMMERCE

National Oceanic and Atmospheric Administration

[I.D. 081806D]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of the South Atlantic Council and Gulf of Mexico Fishery Management Councils' King and Spanish Mackerel Committees. The Council will also hold a joint meeting of its Executive and Finance Committees, Personnel Committee (CLOSED SESSION), King and Spanish Mackerel Committee, Snapper Grouper Committee, Advisory Panel Selection Committee (CLOSED SESSION), and a meeting of the full Council. In addition, the Council will hold a public hearing on Amendment 14 to the Snapper Grouper Fishery Management Plan (FMP), a public hearing regarding a regulatory amendment to the Coastal Migratory Pelagics FMP, and a public input session.

DATES: The meeting will be held September 18 through September-22, 2006. See SUPPLEMENTARY INFORMATION for specific dates and times.

ADDRESSES: The meeting will be held at the Westin Hotel, 2 Grasslawn Avenue, Hilton Head, SC 29928; telephone: (1-800) 937-8461 or (843) 681-4000, fax: (843) 681-7004. Copies of documents are available from Kim Iverson, Public Information Officer, South Atlantic Fishery Management Council, One Southpark Circle, Suite 306, Charleston, SC 29407-4699.

FOR FURTHER INFORMATION CONTACT: Kim Iverson, Public Information Officer; telephone: 843/571-4366 or toll free at 866/SAFMC-10; fax: (843) 769-4520; e-mail: kim.iverson@safmc.net.

SUPPLEMENTARY INFORMATION:

Meeting Dates

1. Joint South Atlantic and Gulf Mackerel Committees Meeting: September 18, 2006, 1:30 p.m. - 5:30 p.m. and September 19, 2006, from 8:30 a.m. - 12 noon

The South Atlantic and Gulf of Mexico Fishery Management Councils' Mackerel Committees will meet jointly to receive and overview of issues affecting the mackerel fishery, review a draft decision document, and take action as appropriate. The Committees will also receive a review of the South Atlantic Council's regulatory amendment to reduce the Total Allowable Catch (TAC) for Atlantic Group king and Spanish Mackerel and change the Atlantic migratory group Spanish mackerel commercial trip limit to track recent changes in the fishing year.

2. Joint Executive Finance Committees Meeting: September 19, 2006, 1:30 p.m. - 3:30 p.m.

The Executive and Finance Committees will meet jointly to review the status of the Regional Operational Agreement (ROA) between the Council and NOAA Fisheries' Southeast Regional Office (SERO), receive an update on the Calendar Year 2006 budget, and status report of the Fiscal Year 2007 Congressional budget.

3. Personnel Committee Meeting: September 19, 2006, 3:30 p.m. - 5 p.m.(CLOSED SESSION)

The Personnel Committee will meet in Closed Session to discuss personnel issues.

September 19, 2006, 6 p.m. - The Council will hold two public hearings:

(1) Amendment 14 to the Snapper Grouper FMP - Proposed marine protected areas.

(2) Mackerel Regulatory Amendment - Changes in Total Allowable Catch for Atlantic group king and Spanish mackerel, and change to commercial trip limit for Atlantic group Spanish mackerel to reflect the new fishing year.

4. Mackerel Committee Meeting: September 20, 2006, 8:30 a.m. until 12 noon

The Council's Mackerel Committee will meet to review the regulatory amendment and develop recommendations. The Committee will also review the issues in the mackerel fishery included in the decision document and develop recommendations for public scoping for the mackerel fishery.

5. Snapper Grouper Committee Meeting: September 20, 2006, 1:30 p.m. until 4 p.m. and September 21, 2006, 8:30 a.m. until 12 noon

The Snapper Grouper Committee will receive an update on Oculina evaluation activities and develop recommendations to staff as necessary. The Committee will also receive a status report on Amendment 14 to the Snapper Grouper FMP regarding marine protected areas and provide direction/clarification on issues relevant to the amendment. In addition, the Committee will receive an update on the development of Amendment 15 regarding rebuilding schedules for overfished species of snapper and grouper, and provide direction to staff as necessary. NOAA Fisheries' SERO will provide presentations on (1) Final 2005 landings for species in Amendment 13C, (2) the status of Amendment 13C Final Rule, and (3) the status of the quota monitoring program and a report on the level of 2006 landings for species in Amendment 13C. The Committee will develop recommendations as necessary.

September 20, 2006, 4:30 p.m. - The Council will hold a Public Input Session.

Members of the public are invited to address the Council on items listed on the agenda or any other fishery issue that falls under the jurisdiction of the Council.

6. Advisory Panel Selection Committee Meeting: September 21, 2006, 1:30 p.m. - 3:30 p.m. (CLOSED SESSION)

The Advisory Panel Selection Committee will review advisory panel applications and develop recommendations for Council consideration.

7. Council Session: September 21, 2006, 4:00 p.m. - 5:30 p.m. and September 22, 2006, 8 a.m. - 12 noon

From 4 p.m. - 4:30 p.m., the Council will call the meeting to order, adopt the agenda, approve the June 2006 meeting minutes, and hold elections for Chairman and Vice-Chairman.

From 4:30 p.m. - 5:30 p.m., the Council will receive a report from the Mackerel Committee, take action on its Mackerel Regulatory Amendment following the public comment session, and take other actions as necessary.

September 21, 2006, 4:30 p.m., the Council will hold a public comment session on the Mackerel Regulatory Amendment.

Council Session: September 22, 2006, 8 a.m. - 12 noon.

From 8 a.m. - 8:30 a.m., the Council will receive a NOAA General Counsel briefing on litigation issues (CLOSED SESSION).

From 8:30 a.m. - 8:45 a.m., the Council will receive a report from the Advisory Panel Selection Committee and take action as appropriate.

From 8:45 a.m. - 9 a.m., the Council will receive a report from the Snapper Grouper Committee and take action as appropriate.

From 9 a.m. - 9:15 a.m., the Council will receive a report from joint Executive/Finance Committees and take action as appropriate.

From 9:15 a.m. - 9:30 a.m., the Council will receive a report on the Southeast Data, Assessment, and Review (SEDAR) stock assessment Steering Committee Meeting and take action as necessary.

From 9:30 a.m. - 12 noon, the Council will receive a presentation regarding the International Commission for the Conservation of Atlantic Tunas (ICCAT), review requests for Experimental Fishing Permits as necessary, and receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by September 14, 2006.

Dated: August 23, 2006.
Tracey L. Thompson,
Acting Director, Office of Sustainable Fisheries, National Marine Fisheries Service.

[FR Doc. E6-14217 Filed 8-25-06; 8:45 am]

BILLING CODE 3510-22-S